OFFICE OF GOVERNMENT ETHICS

Proposed Collection; Comment Request for Unmodified SF 278 Executive Branch Personnel Public Financial Disclosure Report

AGENCY: Office of Government Ethics (OGE).

ACTION: Notice.

SUMMARY: The Office of Government Ethics is publishing this first round notice and seeking comment on the Standard Form (SF) 278 because it intends to submit the form for extension of approval (up to three years) by the Office of Management and Budget (OMB) under the Paperwork Reduction Act. OGE is making no changes to the SF 278 at this time. As in the past, OGE will ask agencies to notify filers of two updates to the information contained in the existing SF 278.

DATES: Written comments by the public and the agencies on this proposed extension are invited and must be received by January 2, 2007.

ADDRESSES: You may submit comments to OGE on this paperwork notice by any of the following methods:

• E-mail: usoge@oge.gov. (Include reference to “SF 278 Paperwork Comment” in the subject line of the message).

• Fax: 202-482-9237.

• Mail, Hand Delivery/Courier: Office of Government Ethics, Suite 500, 1201 New York Avenue, NW., Washington, DC 20005-3917, Attention: Paul D. Ledvina, Records Officer, Information Resources Management Division.

FOR FURTHER INFORMATION CONTACT: Mr. Ledvina at the Office of Government Ethics; telephone: 202-482-9281; TDD: 202-482-9293; fax: 202-482-9237; e-mail: pdledvin@oge.gov. A copy of a blank SF 278 may be obtained, without charge, by contacting Mr. Ledvina. Also, a copy of a blank SF 278 is available through the Forms, Publications & Other Ethics Documents section of OGE's Web site at www.usoge.gov.

SUPPLEMENTARY INFORMATION: The Office of Government Ethics intends to submit, after this notice and comment period, the unmodified Standard Form 278 Executive Branch Personnel Public Financial Disclosure Report (OMB control number 3209-0001) for extension of approval for (up to) three years by OMB under the Paperwork Reduction Act of 1995 (44 U.S.C. chapter 35). The current paperwork approval for the SF 278 expires at the end of November 2006. The Office of Government Ethics, as the supervising ethics office for the executive branch of the Federal Government under the Ethics in Government Act (the Ethics Act), is the sponsoring agency for the Standard Form 278. OGE will not seek General Services Administration (GSA) standard forms clearance for this extension because no modification to this standard form is proposed.

In accordance with section 102 of the Ethics Act, 5 U.S.C. app. section 102, and OGE's implementing financial disclosure regulations at 5 CFR part 2634, the SF 278 collects pertinent financial information from certain officers and high-level employees in the executive branch for conflicts of interest review and public disclosure. The SF 278 is also completed by individuals who are nominated by the President for high-level executive branch positions requiring Senate confirmation and new entrants to other public reporting positions in the executive branch. The financial information collected under the statute and regulations relates to: assets and income; transactions; gifts, reimbursements and travel expenses; liabilities; agreements or arrangements; outside positions; and compensation over $5,000 paid by a source—all subject to various reporting thresholds and exclusions.

Current Version of the SF 278

The Office of Government Ethics is proposing no modifications to the SF 278 at this time. OGE will continue to make the unmodified SF 278 available to departments and agencies and their reporting employees through the Forms, Publications & Other Ethics Documents section of OGE's Web site. This provides filers with two electronic options for preparing their report on a computer (as well as a downloadable blank form). There is also a link on the OGE Web site to another electronic version of the SF 278 maintained by the Department of Defense. In addition, GSA separately maintains two electronic versions of the form on its Web site (www.gsa.gov); paper forms can also be ordered through GSA.

The Office of Government Ethics has determined that at this time, electronic filing of the SF 278 using an Internet-based system will not be permitted. A printout and manual signature of the form are still required unless otherwise specifically approved by OGE. Further developments on electronic filing may be forthcoming as part of a broader E-Gov initiative.

Agency Notification of Updates

There are two ways in which the content of the current SF 278 report form is affected. The first concerns adjustments in the gifts/reimbursements reporting thresholds. The second involves revised routine use language contained in the Privacy Act Statement of the form. OGE is proposing no revisions to the SF 278, but will continue to ask executive branch departments and agencies to inform SF 278 filers, through cover memorandum or otherwise, of these two updates when the existing March 2000 edition of the SF 278 report forms are provided for completion. See OGE's August 25, 2003 memorandum to designated agency ethics officials (DO-03-015), posted in the “DAEOgrams” section of the OGE Web site. Information regarding these changes is also posted along with the SF 278 in the forms section of OGE's Web site. In addition, OGE will post on its Web site an updated summary of one of the Privacy Act routine uses on the report form (see discussion below).

Gifts/Reimbursements Reporting Thresholds

Every three years OGE issues final rule amendments that revise the executive branch financial disclosure regulation to increase the aggregation and exception thresholds for reporting of gifts, reimbursements and travel expenses for the public and confidential report systems. See 5 U.S.C. app. section 102(a)(2)(A) & (B). The OGE aggregation threshold limits the total value of gifts and reimbursements from any one source. The exception threshold limits the value of individual gifts that must be counted toward the aggregation threshold.

OGE's threshold adjustments are tied to the “minimal value” threshold of the Foreign Gifts and Decorations Act, as determined by GSA under 5 U.S.C. 7342. Since 2002, OGE has asked agencies to notify filers of the SF 278 of the updated adjustments to the reporting thresholds for gifts and reimbursements. Effective January 1, 2005, GSA raised the “minimal value” threshold under 5 U.S.C. 7342 to $305 or less for the three-year period 2005-2007. See 70 FR 2317-2318 (part V) (January 12, 2005). Following GSA's action, OGE advised agencies of the adjusted thresholds and revised its financial disclosure regulation to reflect the increase in the thresholds for SF 278 reporting of gifts and travel reimbursements received from any one source to “more than $305” for the aggregation level for reporting and to “$122 or less” for the de minimis aggregation exception threshold. See March 17, 2005 memorandum to designated agency ethics officials (DO-05-007) and 70 FR 12111-12112 (March 11, 2005). Both GSA and OGE rulemakings and OGE's memorandum are posted on the OGE Web site.

Privacy Act Statement

In addition, OGE has updated the OGE/GOVT-1 Privacy Act system of records notice (covering SF 278 Public Financial Disclosure Reports and other name-retrieved ethics program records). See 68 FR 3097-3109 (January 22, 2003), as corrected at 68 FR 24744 (May 8, 2003). As a result, the Privacy Act Statement, which includes summaries of the routine uses on page 11 of the instructions on the SF 278, is affected. As explained in the above-noted OGE memorandum DO-03-015 and the SF 278 notice posted on OGE's Web site, the system notice update added three new routine uses applicable to SF 278 reports. Moreover, OGE will also ask agencies to inform filers of an update needed to the summary of the sixth listed routine use on the form in their periodic notifications to filers of changes to the SF 278. See revised routine use “h” at 68 FR 3100 for the OGE/GOVT-1 records system notice. OGE has already updated that same sixth routine use summary for two of its other forms, the OGE Form 201 and the OGE Optional Form 450-A, and is preparing to do so for the proposed future modified OGE Form 450 for use starting in 2007. The first two forms are posted in the forms section of the OGE Web site; see the paperwork notices in 2005 and 2006 for the latter form posted in the Laws & Regulations section of OGE's Web site. A summary of the updates relevant to that SF 278 statement will be included with the paperwork clearance submission to OMB.

SF 278 Filers

The SF 278 is completed by candidates, nominees, new entrants, incumbents and terminees of certain high-level positions in the executive branch of the Federal Government. These reports are routinely reviewed by the agencies concerned. The Office of Government Ethics, along with the agencies concerned, conducts the review of the SF 278 reports of Presidential nominees subject to Senate confirmation and incumbents in and terminees from such positions.

Reporting Burden

The Office of Government Ethics estimates, based on the agency ethics program questionnaire responses for 2003-2005, that an average of some 23,971 SF 278 report forms are filed annually at departments and agencies throughout the executive branch. Most of those executive branch filers are current Federal employees at the time they file. However, an estimated 4.9 percent, or some 1,175 of the branchwide total SF 278 filers are members of the public, including private citizen Presidential nominees to positions subject to Senate confirmation (and their private representatives-lawyers, accountants, brokers and bankers), other private citizen prospective new entrants to reportable positions, and those who file termination reports from such positions after their Government service ends, and Presidential and Vice Presidential candidates. The OGE estimate covers the next three years, 2007-2009, including a significant increase in reports anticipated with the fall 2008 Presidential election and following transition. The estimated average amount of time to complete the report form, including review of the instructions and gathering of needed information, remains the same as previously reported, at three hours. Thus, the overall estimated annual public burden for the SF 278 for the private citizen/representative nominee and terminee report forms processed in executive branch agencies, and those report forms processed by the OGE, including private citizen Presidential and Vice Presidential candidates report forms, is 3,525 hours.

The prior paperwork burden estimate for the 2003-2005 period was 1,347 hours. This estimate was based upon an annual average of 449 SF 278 forms, those received only at OGE from private citizen/representative nominee and terminee filers, and Presidential and Vice Presidential candidates. The burden estimate for 2007-2009 is adjusted to cover private citizen filers in departments and agencies throughout the executive branch.

Consideration of Comments

Public comment is invited on each aspect of the SF 278 Public Financial Disclosure Report as set forth in this notice, including specifically views on the need for and practical utility of this collection of information, the accuracy of OGE's burden estimate, the potential for enhancement of quality, utility and clarity of the information collected, and the minimization of burden (including the use of information technology).

Any comments received in response to this notice will be summarized for, and may be included with, OGE's request to OMB for paperwork approval for this information collection. Comments will also become a matter of public record. After reviewing any comments received, OGE will also publish a second round notice in the Federal Register to inform the public and the agencies at the time it submits the request for OMB paperwork approval.

Approved: October 26, 2006.
Robert I. Cusick,
Director, Office of Government Ethics.

[FR Doc. E6-18554 Filed 11-2-06; 8:45 am]

BILLING CODE 6345-02-P